DEPARTMENT OF TRANSPORTATION

Federal Aviation Administration

14 CFR Part 39

[Docket No. FAA-2017-0714; Product Identifier 2017-NM-042-AD; Amendment 39-19123; AD 2017-25-09]

RIN 2120-AA64

Airworthiness Directives; Airbus Airplanes

AGENCY: Federal Aviation Administration (FAA), Department of Transportation (DOT).

ACTION: Final rule.

SUMMARY: We are superseding Airworthiness Directive (AD) 2012-21-04, which applied to all Airbus Model A300 series airplanes; Model A310 series airplanes; and Model A300 B4-600, B4-600R, and F4-600R series airplanes, and Model A300 C4-605R Variant F airplanes (collectively called Model A300-600 series airplanes).

AD 2012-21-04 required repetitive inspections for, and replacement of, any cracked hood halves of fuel pump canisters. Since we issued AD 2012-21-04, we allowed inspections of the wing-outer tank and trim tank fuel pump canister hood halves to be terminated.

This new AD retains the requirements of AD 2012-21-04, reinstates the terminated inspections, and adds optional terminating actions. This AD was prompted by reports of cracked fuel pump canister hoods located in fuel tanks and new in-service events of wing-outer tank fuel pump canister hood cracking. We are issuing this AD to address the unsafe condition on these products.

DATES: This AD is effective January 18, 2018.

The Director of the Federal Register approved the incorporation by reference of certain publications listed in this AD as of January 18, 2018.

The Director of the Federal Register approved the incorporation by reference of certain other publications listed in this AD as of November 27, 2012 (77 FR 64701, October 23, 2012).

ADDRESSES: For service information identified in this final rule, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com. You may view this referenced service information at the FAA, Transport Standards Branch, 1601 Lind Avenue SW, Renton, WA. For information on the availability of this material at the FAA, call 425-227-1221. It is also available on the internet at http://www.regulations.gov by searching for and locating Docket No. FAA-2017-0714.

Examining the AD Docket

You may examine the AD docket on the internet at http://www.regulations.gov by searching for and locating Docket No. FAA-2017-0714; or in person at the Docket Management Facility between 9 a.m. and 5 p.m., Monday through Friday, except Federal holidays. The AD docket contains this AD, the regulatory evaluation, any comments received, and other information. The address for the Docket Office (telephone: 800-647-5527) is Docket Management Facility, U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 1601 Lind Avenue SW, Renton, WA 98057-3356; telephone: 425-227-2125; fax: 425-227-1149.

SUPPLEMENTARY INFORMATION:

Discussion

We issued a notice of proposed rulemaking (NPRM) to amend 14 CFR part 39 to supersede AD 2012-21-04, Amendment 39-17220 (77 FR 64701, October 23, 2012) (“AD 2012-21-04”). AD 2012-21-04 applied to all Airbus Model A300 series airplanes; Model A310 series airplanes; and Model A300 B4-600, B4-600R, and F4-600R series airplanes, and Model A300 C4-605R Variant F airplanes (collectively called Model A300-600 series airplanes).

The NPRM published in the Federal Register on August 2, 2017 (82 FR 35911). The NPRM was prompted by reports of cracked fuel pump canister hoods located in fuel tanks and new in-service events of wing-outer tank fuel pump canister hood cracking. The NPRM proposed to retain the requirements of AD 2012-21-04, reinstate terminated inspections, and add optional terminating actions. We are issuing this AD to prevent any detached canister hood fragments/debris from being ingested into the fuel feed system, and becoming a potential source of ignition with consequent fire or explosion.

The European Aviation Safety Agency (EASA), which is the Technical Agent for the Member States of the European Union, has issued EASA AD 2017-0051, dated March 23, 2017 (referred to after this as the Mandatory Continuing Airworthiness Information, or “the MCAI”), to correct an unsafe condition for all Airbus Model A300 series airplanes; Model A310 series airplanes; and Model A300-600 series airplanes. The MCAI states:

Reports were received of finding cracked fuel pump canister hoods located in fuel tanks on in-service aeroplanes. Initial analyses, laboratory testing and examinations suggested that vibration-induced fatigue could have caused these cracks. However, initial data could not exclude some other potential contributing factors.

This condition, if not detected and corrected, could lead to detached canister hood fragments or debris being ingested into the fuel feed system. In addition, metallic debris inside the fuel tank could result in a potential source of fuel vapour ignition, possibly resulting in a fire or fuel tank explosion and consequent loss of the aeroplane.

To address this potential unsafe condition, EASA issued AD 2011-0124 (later revised) [FAA AD 2012-21-04 corresponds to EASA AD 2011-0124] to require repetitive inspections of the canister hood halves installed on all fuel pump canisters and, if any damage was found, replacement. EASA AD 2011-0124R1 introduced an optional terminating action for the wing inner and centre fuel tanks, and cancelled the repetitive inspections of the fuel pump canister hoods in outer wing and trim tanks, for which no cracks had been reported following the initial inspection.

Since that [EASA] AD was issued, new in service events of outer tank fuel pump canister hood cracking have been reported. Consequently, the canister hoods of the outer tank fuel pumps and trim tank fuel pumps will need to be inspected.

For the reasons described above, this [EASA] AD retains the requirements of EASA AD 2011-0124R1, which is superseded, retaining the repetitive inspections of fuel pump canister hoods in wing inner and centre tanks, and reintroduces repetitive detailed inspections (DET) for outer tank and trim tank fuel pump canister hoods. This [EASA] AD also retains the existing optional terminating action for the repetitive DET of wing inner and centre tank fuel pump canister hoods, and introduces a new optional terminating action for the repetitive DET of the outer and trim tank fuel pump canister hoods required by this [EASA] AD.

You may examine the MCAI in the AD docket on the internet at http://www.regulations.gov by searching for and locating Docket No. FAA-2017-0714.

Comments

We gave the public the opportunity to participate in developing this AD. We considered the comment received. The commenter, John Sanderson, supported the NPRM.

Conclusion

We reviewed the available data, including the comment received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Airbus has issued the following service information.

• Airbus Service Bulletin A300-28-0089, Revision 03, dated December 16, 2016. This service information describes procedures for repetitive detailed inspections of all fuel pump locations (center, wing-inner, and wing-outer tank), and replacing any cracked hood halves of fuel pump canisters.

• Airbus Service Bulletin A300-28-0092, Revision 01, dated August 29, 2014; Airbus Service Bulletin A300-28-6110, Revision 01, dated August 29, 2014; and Airbus Service Bulletin A310-28-2175, Revision 01, dated August 29, 2014. This service information describes procedures for replacement of the hood halves of the fuel pump canisters with newer design hood halves for the wing-inner tank and the center tank fuel pumps. These documents are distinct since they apply to different airplane models.

• Airbus Service Bulletin A300-28-0094, Revision 00, dated January 9, 2017. This service information describes procedures for replacement of the hood halves of the fuel pump canisters with newer design hood halves for the wing-outer tank.

• Airbus Service Bulletin A300-28-6106, Revision 03, dated December 16, 2016; and Airbus Service Bulletin A310-28-2173, Revision 03, dated December 16, 2016. This service information describes procedures for repetitive detailed inspections of all fuel pump locations (center, wing-inner, wing-outer, and trim tank), and replacing any cracked hood halves of fuel pump canisters. These documents are distinct since they apply to different airplane models.

• Airbus Service Bulletin A300-28-6114, Revision 00, dated January 9, 2017; and Airbus Service Bulletin A310-28-2178, Revision 00, dated January 9, 2017. This service information describes procedures for replacement of the hood halves of the fuel pump canisters with newer design hood halves for the wing-outer tank and the trim tank fuel pumps. These documents are distinct since they apply to different airplane models.

This service information is reasonably available because the interested parties have access to it through their normal course of business or by the means identified in the ADDRESSES section.

Costs of Compliance

We estimate that this AD affects 168 airplanes of U.S. registry.

The actions required by AD 2012-21-04, and retained in this AD take about 12 work-hours per product, at an average labor rate of $85 per workhour. Based on these figures, the estimated cost of the actions that are required by AD 2012-21-04 is $1,020 per product.

We also estimate that it will take about 9 work-hours per product to comply with the new basic requirements of this AD, at an average labor rate of $85 per work-hour. Based on these figures, we estimate the cost of the new basic requirements of this AD on U.S. operators to be $128,520, or $765 per product.

In addition, we estimate that the optional terminating actions will take about 1 work-hour and require parts costing $255, for a cost of $340 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-21-04, Amendment 39-17220 (77 FR 64701, October 23, 2012), and adding the following new AD:

2017-25-09 Airbus: Amendment 39-19123; Docket No. FAA-2017-0714; Product Identifier 2017-NM-042-AD.

(a) Effective Date

This AD is effective January 18, 2018.

(b) Affected ADs

This AD replaces AD 2012-21-04, Amendment 39-17220 (77 FR 64701, October 23, 2012) (“AD 2012-21-04”).

(c) Applicability

This AD applies to the airplanes identified in paragraphs (c)(1), (c)(2), and (c)(3) of this AD, certificated in any category, all certificated models, all manufacturer serial numbers.

(1) Airbus Model A300 B2-1A, B2-1C, B2K-3C, B2-203, B4-2C, B4-103, and B4-203 airplanes.

(2) Airbus Model A310-203, -204, -221, -222, -304, -322, -324, and -325 airplanes.

(3) Airbus Model A300 B4-601, B4-603, B4-620, and B4-622 airplanes, Model A300 B4-605R and B4-622R airplanes, Model A300 F4-605R and F4-622R airplanes, and Model A300 C4-605R Variant F airplanes.

(d) Subject

Air Transport Association (ATA) of America Code 28, Fuel.

(e) Reason

This AD was prompted by reports of cracked fuel pump canister hoods located in fuel tanks and new in-service events of wing-outer tank fuel pump canister hood cracking. We are issuing this AD to prevent any detached canister hood fragments/debris from being ingested into the fuel feed system, and becoming a potential source of ignition with consequent fire or explosion.

(f) Compliance

Comply with this AD within the compliance times specified, unless already done.

(g) Retained Initial Inspection and Replacement, With Revised Requirements and Service Information

This paragraph restates the requirements of paragraph (g) of AD 2012-21-04, with revised requirements and service information. Within 30 months after November 27, 2012 (the effective date of AD 2012-21-04), do a detailed inspection for cracking of the fuel pump canister hood halves installed on all center and wing-inner tank fuel pump canisters having part numbers (P/N) 2052C11, 2052C12, and C93R51-601, in accordance with the Accomplishment Instructions of the service bulletin specified in paragraph (g)(1), (g)(2), or (g)(3) of this AD, as applicable. If any crack is found on any fuel pump canister hood half during any inspection, before further flight, replace the fuel pump canister hood half, in accordance with the Accomplishment Instructions of the service bulletin specified in paragraph (g)(1), (g)(2), or (g)(3) of this AD, as applicable.

(1) For Model A300 series airplanes: Airbus Mandatory Service Bulletin A300-28-0089, Revision 01, including Inspection Findings—Reporting Sheet, dated April 15, 2011; or Airbus Service Bulletin A300-28-0089, Revision 03, dated December 16, 2016. As of the effective date of this AD, only use Airbus Service Bulletin A300-28-0089, Revision 03, dated December 16, 2016.

(2) For Model A300-600 series airplanes: Airbus Mandatory Service Bulletin A300-28-6106, Revision 01, including Inspection Findings—Reporting Sheet, dated April 15, 2011; or Airbus Service Bulletin A300-28-6106, Revision 03, dated December 16, 2016. As of the effective date of this AD, only use Airbus Service Bulletin A300-28-6106, Revision 03, dated December 16, 2016.

(3) For Model A310 series airplanes: Airbus Mandatory Service Bulletin A310-28-2173, Revision 01, including Inspection Findings—Reporting Sheet, dated April 15, 2011; or Airbus Service Bulletin A310-28-2173, Revision 03, dated December 16, 2016. As of the effective date of this AD, only use Airbus Service Bulletin A310-28-2173, Revision 03, dated December 16, 2016.

(h) Retained Repetitive Inspections, With No Changes

This paragraph restates the requirements of paragraph (h) of AD 2012-21-04, with no changes. Within 30 months after accomplishing the actions specified in paragraph (g) of this AD, and thereafter at intervals not to exceed 30 months, repeat the detailed inspection specified in paragraph (g) of this AD.

(i) New Repetitive Inspections and Replacement of the Wing-Outer Tank and Trim Tank Fuel Pump Canister Hood Halves

Within 30 months after the effective date of this AD, do a detailed inspection for cracking of the wing-outer tank and trim tank, as applicable, fuel pump canister hood halves installed on all fuel pump canisters having P/Ns 2052C11, 2052C12, and C93R51-601, in accordance with the Accomplishment Instructions of the service bulletin specified in paragraph (i)(1), (i)(2), or (i)(3) of this AD, as applicable. Repeat the inspection thereafter at intervals not to exceed 30 months. If any crack is found on any fuel pump canister hood half during any inspection, before further flight, replace the fuel pump canister hood half, in accordance with the Accomplishment Instructions of the service bulletin specified in paragraph (i)(1), (i)(2), or (i)(3) of this AD, as applicable.

(1) For Model A300 series airplanes: Airbus Service Bulletin A300-28-0089, Revision 03, dated December 16, 2016.

(2) For Model A300-600 series airplanes: Airbus Service Bulletin A300-28-6106, Revision 03, dated December 16, 2016.

(3) For Model A310 series airplanes: Airbus Service Bulletin A310-28-2173, Revision 03, dated December 16, 2016.

(j) New Optional Terminating Actions

Replacement of the fuel pump canister hood halves installed on all fuel pump canisters having P/Ns 2052C11, 2052C12, and C93R51-601, constitutes terminating action for the inspections required by paragraphs (g) and (h) of this AD for that airplane. The replacement of the fuel pump canister hood halves must be done in accordance with the Accomplishment Instructions of the service information specified in paragraph (j)(1), (j)(2), or (j)(3) of this AD, as applicable.

(1) For Model A300 series airplanes: Airbus Service Bulletin A300-28-0092, Revision 01, dated August 29, 2014 (for center and wing-inner tank fuel pump canister hood halves); and Airbus Service Bulletin A300-28-0094, Revision 00, dated January 9, 2017 (for wing-outer tank fuel pump canister hood halves).

(2) For Model A300-600 series airplanes: Airbus Service Bulletin A300-28-6110, Revision 01, dated August 29, 2014 (for center and wing-inner tank fuel pump canister hood halves); and Airbus Service Bulletin A300-28-6114, Revision 00, dated January 9, 2017 (for wing-outer tank and trim tank fuel pump canister hood halves).

(3) For Model A310 series airplanes: Airbus Service Bulletin A310-28-2175, Revision 01, dated August 29, 2014 (for center and wing-inner tank fuel pump canister hood halves); and Airbus Service Bulletin A310-28-2178, Revision 00, dated January 9, 2017 (for wing-outer tank and trim tank fuel pump canister hood halves).

(k) Credit for Previous Actions

(1) This paragraph provides credit for the actions required by paragraph (g) of this AD, if those actions were performed before the effective date of this AD using the applicable service information specified in paragraph (k)(1)(i), (k)(1)(ii), or (k)(1)(iii) of this AD.

(i) Airbus Service Bulletin A300-28-0089, dated January 13, 2011; or Airbus Service Bulletin A300-28-0089, Revision 02, dated April 25, 2014.

(ii) Airbus Service Bulletin A300-28-6106, dated January 13, 2011; or Airbus Service Bulletin A300-28-6106, Revision 02, dated April 25, 2014.

(iii) Airbus Service Bulletin A310-28-2173, dated January 13, 2011; or Airbus Service Bulletin A310-28-2173, Revision 02, dated April 25, 2014.

(2) This paragraph provides credit for the actions required by paragraph (h) of this AD, if those actions were performed before the effective date of this AD using the applicable service information specified in paragraph (k)(2)(i), (k)(2)(ii), or (k)(2)(iii) of this AD.

(i) Airbus Service Bulletin A300-28-0089, dated January 13, 2011; Airbus Mandatory Service Bulletin A300-28-0089, Revision 01, dated April 15, 2011; or Airbus Service Bulletin A300-28-0089, Revision 02, dated April 25, 2014.

(ii) Airbus Service Bulletin A300-28-6106, dated January 13, 2011; Airbus Mandatory Service Bulletin A300-28-6106, Revision 01, dated April 15, 2011; or Airbus Service Bulletin A300-28-6106, Revision 02, dated April 25, 2014.

(iii) Airbus Service Bulletin A310-28-2173, dated January 13, 2011; Airbus Mandatory Service Bulletin A310-28-2173, Revision 01, dated April 15, 2011; or Airbus Service Bulletin A310-28-2173, Revision 02, dated April 25, 2014.

(3) This paragraph provides credit for the actions specified in paragraph (j) of this AD, if those actions were performed before the effective date of this AD using Airbus Service Bulletin A300-28-6110, Revision 00, dated November 28, 2013.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2012-21-04 are not approved as AMOCs with this AD.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(m) Related Information

(1) Refer to Mandatory Continuing Airworthiness Information (MCAI) EASA AD 2017-0051, dated March 23, 2017, for related information. This MCAI may be found in the AD docket on the internet at http://www.regulations.gov by searching for and locating Docket No. FAA-2017-0714.

(2) For more information about this AD, contact Dan Rodina, Aerospace Engineer, International Section, Transport Standards Branch, FAA, 1601 Lind Avenue SW, Renton, WA 98057-3356; telephone 425-227-2125; fax 425-227-1149.

(3) Service information identified in this AD that is not incorporated by reference is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on January 18, 2018.

(i) Airbus Service Bulletin A300-28-0089, Revision 03, dated December 16, 2016.

(ii) Airbus Service Bulletin A300-28-0092, Revision 01, dated August 29, 2014.

(iii) Airbus Service Bulletin A300-28-0094, Revision 00, dated January 9, 2017.

(iv) Airbus Service Bulletin A300-28-6106, Revision 03, dated December 16, 2016.

(v) Airbus Service Bulletin A300-28-6110, Revision 01, dated August 29, 2014.

(vi) Airbus Service Bulletin A300-28-6114, Revision 00, dated January 9, 2017.

(vii) Airbus Service Bulletin A310-28-2173, Revision 03, dated December 16, 2016.

(viii) Airbus Service Bulletin A310-28-2175, Revision 01, dated August 29, 2014.

(ix) Airbus Service Bulletin A310-28-2178, Revision 00, dated January 9, 2017.

(4) The following service information was approved for IBR on November 27, 2012 (77 FR 64701, October 23, 2012).

(i) Airbus Mandatory Service Bulletin A300-28-0089, Revision 01, including Inspection Findings—Reporting Sheet, dated April 15, 2011.

(ii) Airbus Mandatory Service Bulletin A300-28-6106, Revision 01, including Inspection Findings—Reporting Sheet, dated April 15, 2011.

(iii) Airbus Mandatory Service Bulletin A310-28-2173, Revision 01, including Inspection Findings—Reporting Sheet, dated April 15, 2011.

(5) For service information identified in this AD, contact Airbus SAS, Airworthiness Office—EAW, 1 Rond Point Maurice Bellonte, 31707 Blagnac Cedex, France; telephone: +33 5 61 93 36 96; fax: +33 5 61 93 44 51; email: account.airworth-eas@airbus.com; internet: http://www.airbus.com.

(6) You may view this service information at the FAA, Transport Standards Branch, 1601 Lind Avenue SW, Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on December 4, 2017.
Dionne Palermo,
Acting Director, System Oversight Division, Aircraft Certification Service.

[FR Doc. 2017-26627 Filed 12-13-17; 8:45 am]

BILLING CODE 4910-13-P